DEPARTMENT OF THE TREASURY

Internal Revenue Service

26 CFR Part 1

[REG-138707-06]

RIN 1545-BF90

Exclusions From Gross Income of Foreign Corporations; Correction

AGENCY: Internal Revenue Service (IRS), Treasury.

ACTION: Correction to notice of proposed rulemaking by cross-reference to temporary regulations.

SUMMARY: This document contains corrections to notice of proposed rulemaking by cross-reference to temporary regulations (REG-138707-06) that were published in the Federal Register on Monday, June 25, 2007 (72 FR 34650) modifying final regulations issued under section 883(a) and (c) of the Internal Revenue Code, relating to income derived by foreign corporations from the international operation of ships or aircraft.

FOR FURTHER INFORMATION CONTACT: Patricia A. Bray, (202) 622-3880 (not a toll-free number).

SUPPLEMENTARY INFORMATION:

Background

The notice of proposed rulemaking by cross-reference to temporary regulations that are the subject of this correction are under section 883(a) and (c) of the Internal Revenue Code.

Need for Correction

As published, notice of proposed rulemaking by cross-reference to temporary regulations (REG-138707-06) contains errors that may prove to be misleading and are in need of clarification.

Correction of Publication

Accordingly, the publication of the proposed regulations (REG-138707-06), which was the subject of FR Doc. E7-12037, is corrected as follows:

1. On page 34650, column 2, in the preamble, under the paragraph heading “Paperwork Reduction Act”, line 1 of the fourth paragraph, the language “Whether the proposed collection of” is corrected to read “Whether the proposed collections of”.

2. On page 34650, column 2, in the preamble, under the paragraph heading “Paperwork Reduction Act”, line 2 of the fifth paragraph, the language “associated with the proposed collection” is corrected to read “associated with the proposed collections”.

3. On page 34651, column 1, in the preamble, under the paragraph heading “Comments and Public Hearing”, line 7, the language “and Treasury Department specifically” is corrected to read “and the Treasury Department specifically”.

4. On page 34651, column 2, in the preamble, under the paragraph heading “Drafting Information”, line 5, the language “personnel from the IRS and Treasury” is corrected to read “personnel from the IRS and the Treasury”.

LaNita Van Dyke,
Chief, Publications and Regulations Branch, Legal Processing Division, Associate Chief Counsel (Procedure and Administration).

[FR Doc. E7-15273 Filed 8-10-07; 8:45 am]

BILLING CODE 4830-01-P